NATIONAL SCIENCE FOUNDATION

Notice of Virtual Workshop on Pioneering the Future of Federally Supported Data Repositories

AGENCY: Networking and Information Technology Research and Development (NITRD) National Coordination Office (NCO), National Science Foundation.

ACTION: Notice of Virtual Workshop.

SUMMARY: The workshop on “Pioneering the Future of Federally Supported Data Repositories” seeks to engage representatives of federally supported data repositories, thought-leaders in data science, and representative users to imagine future opportunities and challenges, build and strengthen the community of federally supported repositories, and identify areas for cross agency coordination.

DATES: January 13-15, 2021.

ADDRESSES: The workshop on “Pioneering the Future of Federally Supported Data Repositories” will be held virtually.

Instructions: Participation is by invitation only, but observers are welcome on a first-come, first-served basis, as there are a limited number of virtual seats available. Registration is required; registration link will be available a week before the workshop. For more information on the workshop, agenda, and registration, please see the workshop website: https://www.nitrd.gov/nitrdgroups/index.php?title=Federally-Supported-Data-Repositories.

FOR FURTHER INFORMATION CONTACT: Ji Lee at BDWorkshop-Repositories@nitrd.gov. Individuals who use a telecommunications device for the deaf (TDD) may call the Federal Information Relay Service (FIRS) at 1-800-877-8339 between 8 a.m. and 8 p.m., Eastern time (ET), Monday through Friday.

SUPPLEMENTARY INFORMATION:

Overview: This notice is issued on behalf of the NITRD Big Data (BD) Interagency Working Group (IWG). Agencies of the NITRD BD IWG are holding a workshop focused on federally supported repositories. Experts from federally supported data repositories, thought-leaders in data science, and representative users will explore future visions for federally supported research data repositories, what the repositories can do to prepare for this future vision, and how to build and strengthen the community of federally supported repositories. The workshop will be held virtually on January 13-15, 2021 from 1 p.m. (ET) to 5 p.m. (ET).

Goal: The workshop will explore future visions for the federally supported repositories to identify opportunities and challenges, areas for cross agency coordination, and ways to build and strengthen the community of federally supported repositories.

Rationale: Data-driven research and Artificial Intelligence and Machine Learning (AI/ML) bring renewed focus on research data repositories. Adapting to the emerging and evolving needs and requirements of future data-intensive research is a challenge facing federally supported data repositories.

Submitted by the National Science Foundation in support of the Networking and Information Technology Research and Development (NITRD) National Coordination Office (NCO) on December 4, 2020.

(Authority: 42 U.S.C. 1861)

Suzanne H. Plimpton,
Reports Clearance Officer, National Science Foundation.

[FR Doc. 2020-27047 Filed 12-8-20; 8:45 am]

BILLING CODE 7555-01-P